DENALI COMMISSION

45 CFR Chapter IX

National Environmental Policy Act Implementing Procedures

AGENCY: Denali Commission.

ACTION: Withdrawal of proposed rule.

SUMMARY: The Denali Commission withdraws a Proposed Rule to add regulations for implementing the National Environmental Policy Act of 1969 (NEPA). The Proposed Rule was published in the Federal Register on August 10, 2004.

DATES: The effective date of withdrawal is March 9, 2006.

FOR FURTHER INFORMATION CONTACT: Mr. Krag Johnsen, Denali Commission; 510 L Street, Suite 410; Anchorage, AK 99501. Telephone: (907) 271-1414. E-mail: communications@denali.gov.

SUPPLEMENTARY INFORMATION: The Denali Commission withdraws a Proposed Rule “* * * to establish 45 CFR Chapter IX and to add regulations for implementing the National Environmental Policy Act of 1969 (NEPA).” The effective date of withdrawal is March 9, 2006. The Proposed Rule was published in the Federal Register on August 10, 2004. The Denali Commission intends to adopt guidelines for implementing NEPA provisions that are consistent with it's method of operation. Consistent with the provisions of the National Environmental Policy Act, the Commission has decided to use guidelines for its required NEPA implementation procedures instead of promulgating regulations in order to maintain greater flexibility to implement any changes to these procedures as may be necessary in the future.

Dated: March 9, 2006.
George J. Cannelos,
Federal Co-Chair.

[FR Doc. E6-3801 Filed 3-15-06; 8:45 am]

BILLING CODE 3300-01-P